DEPARTMENT OF COMMERCE

National Oceanic and Atmospheric Administration

[I.D. 041801E]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Strategic Plan Implementation Oversight Committee (SPOC) will hold a telephone conference, which is open to the public.

DATES: The telephone conference will be held Monday, May 14, 2001, from 9 a.m.-12 p.m.

ADDRESSES: See SUPPLEMENTARY INFORMATION for locations of telephone conference availability.

Council address: Pacific Fishery Management Council, 2130 SW Fifth Avenue, Suite 224, Portland, Oregon 97201.

FOR FURTHER INFORMATION CONTACT: Mr. Dan Waldeck, telephone: (503) 326-6352.

SUPPLEMENTARY INFORMATION:

Meeting Locations

1. National Marine Fisheries Service, Northwest Region, Director's Conference Room, 7600 Sand Point Way NE, Building 1, Seattle, WA 98115; Contact: Mr. Bill Robinson (206) 526-6142.

2. Pacific Fishery Management Council, 2130 SW Fifth Avenue, Suite 224, Portland, OR 97201; Contact: Mr. Dan Waldeck (503) 326-6352.

3. California Fish and Game Commission Conference Room, Room 1320, 1416 Ninth Street, Sacramento, CA 95814; Contact: Mr. LB Boydstun (916) 653-6281.

4. Natural Resource Building, Room 677, 1111 Washington Street SE, Olympia, WA 98501; Contact: (360) 902-2819.

The purpose of the telephone conference is to discuss several issues: (1) the establishment of an Implementation Development Team for trawl permit stacking, (2) composition and purpose of a Council advisory committee for marine reserves, (3) conversion of the open access fishery to limited entry, and (4) a report detailing ongoing efforts related to marine reserves, protected areas, or sanctuaries.

Although non-emergency issues not contained in this agenda may come before the Council for discussion, those issues may not be the subject of formal Council action during this meeting. Council action will be restricted to those issues specifically listed in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Ms. Carolyn Porter at (503) 326-6352 at least 5 days prior to the meeting date.

Dated: April 23, 2001.
Richard W. Surdi,
Acting Director, Office of Sustainable Fisheries, National Marine Fisheries Service.

[FR Doc. 01-10540 Filed 4-26-01; 8:45 am]

BILLING CODE 3510-22-S